DEPARTMENT OF TRANSPORTATION

Federal Aviation Administration

Agency Information Collection Activities: Requests for Comments; Clearance of Renewed Approval of Information Collection: Aeronautical Chart Point of Sale Survey

AGENCY: Federal Aviation Administration (FAA), DOT.

ACTION: Notice and request for comments.

SUMMARY: In accordance with the Paperwork Reduction Act of 1995, FAA invites public comments about our intention to request the Office of Management and Budget (OMB) approval for to renew an information collection. Aeronautical Chart Point of Sale Survey data will be used by the Federal Aviation Administration to measure management objectives and analyze customer feedback for ISO-9001.

DATES: Written comments should be submitted by January 29, 2013.

ADDRESSES: Send comments to the FAA at the following address: Ms. Kathy DePaepe, Room 126B, Federal Aviation Administration, AES-200, 6500 S. MacArthur Blvd., Oklahoma City, OK 73169.

FOR FURTHER INFORMATION CONTACT: Kathy DePaepe at (405) 954-9362, or by email at: Kathy.A.DePaepe@faa.gov.

SUPPLEMENTARY INFORMATION: OMB Control Number: 2120-0741.

Title: Aeronautical Chart Point of Sale Survey.

Form Numbers: There are no FAA forms associated with this collection.

Type of Review: Renewal of an information collection.

Background: The Aviation System Standards Distribution Dissemination Quality Plan states that the organization shall determine, collect, and analyze appropriate data to demonstrate the suitability and effectiveness of the Quality Management System in relation to customer satisfaction. The Glenn Dale Distribution Center collects the customer feedback for Aviation System Standards Quality Management objectives. To accomplish the research objectives, Customers receive an email with a web link to an anonymous and voluntary survey twice a year. This information is used by Aviation System Standards to help evaluate current aeronautical product customer service at the point of sale.

Respondents: An estimated 320 aeronautical product customers.

Frequency: This information is collected semi-annually.

Estimated Average Burden per Response: 5 minutes.

Estimated Total Annual Burden: 53 hours.

Public Comments Invited: You are asked to comment on any aspect of this information collection, including (a) whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on November 13, 2012.
Albert R. Spence,
FAA Assistant Information Collection Clearance Officer, IT Enterprises Business Services Division, AES-200.

[FR Doc. 2012-28981 Filed 11-29-12; 8:45 am]

BILLING CODE 4910-13-P